DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on August 25, 2004 page 52324.

DATES: Comments must be submitted on or before April 6, 2005. A comment to OMB is most effective if OMB receives it within 30 days of publication.

FOR FURTHER INFORMATION CONTACT: Judy Street on (202) 267-9895.

SUPPLEMENTARY INFORMATION:

Federal Aviation Administration (FAA)

Title: Safety Improvements Report Accident Prevention Counselor Activity Reports.

Type of Request: Extension of a currently approved collection.

OMB Control Number: 2120-0057

Forms(s): FAA Forms 8740-5 and 8740-6

Affected Public: A total of 4,792 respondents.

Abstract: The affected public for this collection are pilots, airport operators, charter and commuter aircraft operators engaging in air transportation. Safety improvement reports are used by airmen to notify the FAA of hazards to flight operations. Accident Prevention Counselor Activity Reports are used by counselors to advise the FAA of Accident Prevention Program accomplishments.

Estimated Annual Burden Hours: An estimated 2,042 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on February 28, 2005.
Judith D. Street,
FAA Information Collection Clearance Officer, Standards and information Division, APF-100.

[FR Doc. 05-4287 Filed 3-4-05; 8:45 am]

BILLING CODE 4910-13-M